SMALL BUSINESS ADMINISTRATION

13 CFR Part 121

RIN 3245-AG46

Small Business Size Regulations, Small Business Innovation Research (SBIR) Program and Small Business Technology Transfer (STTR) Program; Correction

AGENCY: U.S. Small Business Administration (SBA).

ACTION: Correcting amendments.

SUMMARY: This document contains corrections to the final regulations which were published in the Federal Register on Thursday, December 27, 2012. The regulations related to size and eligibility for the Small Business Innovation Research (SBIR) and Small Business Technology Transfer (STTR) programs.

DATES: Effective February 20, 2013 and is applicable beginning January 28, 2013.

FOR FURTHER INFORMATION CONTACT: Carl Jordan, Office of Size Standards, at (202) 205-6618, or Edsel Brown, Assistant Director, Office of Technology, at (202) 205-7343, or sizestandards@sba.gov.

SUPPLEMENTARY INFORMATION: On May 15, 2012, at 77 FR 28520 (available at http://www.gpo.gov/fdsys/pkg/FR-2012-05-15/pdf/2012-11586.pdf), the U.S. Small Business Administration (SBA or Agency) published a proposed rule to implement provisions in the National Defense Authorization Act for Fiscal Year 2012 (Defense Authorization Act), Pub. L. 112-81, which affected the SBIR and STTR programs, including those relating to size and eligibility.

On December 27, 2012 (77 FR 76215), SBA published a final rule, which amended the eligibility requirements for the SBIR and STTR programs. As published, the final regulations contain two points where the word “small” was inadvertently left out and which need to be clarified.

List of Subjects in 13 CFR Part 121

Administrative practice and procedure, Government procurement, Government property, Loan programs-business, Small businesses.

Accordingly, 13 CFR part 121 is corrected by making the following amendments:

PART 121—SMALL BUSINESS SIZE REGULATIONS

1. The authority citation for 13 CFR part 121 continues to read as follows:

Authority: 15 U.S.C. 632, 634(b)(6), 638, 662, and 694a(9).

§ 121.702 [Amended]

2. In § 121.702, amend paragraphs (a)(1)(i) and (b)(1)(i) by removing the phrase “other business concerns” and adding in its place “other small business concerns”.

Dated: February 11, 2013.
Sean Greene,
Associate Administrator for Investment.

[FR Doc. 2013-03772 Filed 2-19-13; 8:45 am]

BILLING CODE 8025-01-P